DEPARTMENT OF COMMERCE

Foreign-Trade Zones Board

[Order No. 1748]

Approval for Extension of Subzone Status and Manufacturing Authority; Foreign-Trade Subzone 169A; Aso LLC; (Adhesive Bandages); Sarasota County, FL; Correction

The Federal Register notice (76 FR 19746, 4/8/2011) describing the approval of the application by the Manatee County Port Authority, grantee of Foreign-Trade Zone (FTZ) 169, to indefinitely extend subzone status and manufacturing authority on behalf of Aso LLC, to perform adhesive bandage manufacturing within FTZ Subzone 169A in Sarasota County, Florida, is corrected as follows:

Paragraph 1 should read: “WHEREAS, the Manatee County Port Authority, grantee of Foreign-Trade Zone (FTZ) 169, has requested to indefinitely extend subzone status and manufacturing authority on behalf of Aso LLC (Aso) to perform adhesive bandage manufacturing within FTZ Subzone 169A in Sarasota County, Florida, (FTZ Docket 55-2010, filed 9/23/2010);”

Dated: April 8, 2011.
Andrew McGilvray,
Executive Secretary.

[FR Doc. 2011-9324 Filed 4-15-11; 8:45 am]

BILLING CODE 3510-DS-P